DEPARTMENT OF TRANSPORTATION

Surface Transportation Board

Notice and Request for Comments

ACTION: 30-Day Notice of Information Collection Under Review: Maps in Abandonment Exemption Proceedings.

SUMMARY: The Surface Transportation Board (Board), as part of its continuing effort to reduce paperwork burdens, and as required by the Paperwork Reduction Act of 1995, 44 U.S.C. 3501 et seq. (PRA), has submitted a request to the Office of Management and Budget (OMB) for an extension of approval for the currently approved collection of maps in abandonment exemption proceedings. The Board previously published a notice about these collections in the Federal Register on July 12, 2006, at 71 FR 39395. That notice allowed for a 60-day public review and comment period. No comments were received.

The purpose of the current notice is to allow an additional 30 days for public comment to satisfy the requirements of the PRA, 44 U.S.C. 3507(b). Comments are sought from interested persons concerning (1) whether the collection of maps is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology when appropriate.

Description of Collection

Title: Maps Required in Abandonment Exemption Proceedings.

OMB Control Number: 2140-0008.

Form Number: None.

Type of Review: Extension without change.

Respondents: Railroads initiating abandonment exemption proceedings.

Number of Respondents: 91.

Estimated Time Per Response: 1 hour, based on average time reported in informal survey of respondents conducted in 2003.

Frequency of Response: 1.

Total Annual Burden Hours: 91.

Total Annual “Non-Hour Burden” Cost: None has been identified.

Needs and Uses: Under 49 CFR 1152.50(d)(2) and 1152.60(b), the Board requires in each abandonment exemption proceeding a detailed map of the rail line, depicting the line's relation to other rail lines, roads, water routes, and population centers. The Board uses this information to determine the scope and the impact of the proposed abandonment. In addition, this information is posted on the Board's Web site and serves as a form of notice to current and/or potential shippers, and to persons who might want either to continue rail service under 49 U.S.C. 10904; to acquire the line as a trail under the National Trails System Act, 16 U.S.C 1247(d); or to acquire the line for another public purpose under 49 U.S.C. 10905.

Deadline: Comments on this information collection should be submitted by December 14, 2006.

ADDRESSES: Comments should be in writing and directed to the Office of Management and Budget, Office of Information and Regulatory Affairs, Attention: Surface Transportation Board Desk Officer, Room 10235, 725 17th Street, NW., Washington, DC 20503, or to Alexander_T._Hunt@omb.eop.gov. Comments should be identified as “Paperwork Reduction Act Comments, Surface Transportation Board, Maps Submitted in Abandonment Proceedings, OMB Control Number 2140-0008.”

FOR FURTHER INFORMATION CONTACT: A copy of the regulations pertaining to this information collection may be obtained by contacting Barbara G. Saddler at (202) 565-1656 or saddlerb@stb.dot.gov. These rules can also be found on the Board's Web site at http://www.stb.dot.gov by searching under “E-Library,” and then “Research Aids.”

SUPPLEMENTARY INFORMATION: Under the PRA, a Federal agency conducting or sponsoring a collection of information must display a currently valid OMB control number. Collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: November 14, 2006.
Vernon A. Williams,
Secretary.

[FR Doc. E6-19179 Filed 11-13-06; 8:45 am]

BILLING CODE 4915-01-P